DEPARTMENT OF DEFENSE

Office of the Secretary

[Docket ID DoD-2020-OS-0090]

Submission for OMB Review; Comment Request

AGENCY: National Defense University, Department of Defense (DoD).

ACTION: 30-Day information collection notice.

SUMMARY: The Department of Defense has submitted to OMB for clearance the following proposal for collection of information under the provisions of the Paperwork Reduction Act.

DATES: Consideration will be given to all comments received by March 29, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: ISMO International Fellows Personal Information Collection; OMB Control Number 0704-XXXX.

Type of Request: Existing collection in use without an OMB Control Number.

Number of Respondents: 109.

Responses per Respondent: 2.

Annual Responses: 218.

Average Burden per Response: 45 minutes.

Annual Burden Hours: 164.

Needs and Uses: This collection is necessary to collect essential personal information on foreign national students attending the National Defense University. The information collected is used to create profiles for the international students that ensures their needs are met as they transition to their time living in the United States as a student. It also helps them secure driving licenses, common access cards, facility identification number, temporary lodging assignment payments, and a defense travel system profile. Their preliminary information, including name, service, past assignments, etc. is collected via email correspondence while they are still in their home country. More sensitive information such as passport information, Date of Birth, Visa # and their FIN are collected either in person or over the WhatsApp messaging service, utilizing their end-to-end encryption. All student information is stored in a database that is only accessible to members of our office.

Affected Public: Individuals or households (Foreign Nationals).

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: February 18, 2021.
Aaron T. Siegel,
Alternate OSD Federal Register Liaison Officer, Department of Defense.

[FR Doc. 2021-03993 Filed 2-25-21; 8:45 am]

BILLING CODE 5001-06-P